ENVIRONMENTAL PROTECTION AGENCY

[FRL-9319-4]

Science Advisory Board Staff Office Notification of a Public Meeting of the Science Advisory Board Panel for the Review of Great Lakes Restoration Initiative Action Plan

AGENCY: Environmental Protection Agency (EPA).

ACTION: Notice.

SUMMARY: The Environmental Protection Agency (EPA or Agency) Science Advisory Board (SAB) Staff Office announces a public face-to-face meeting of the SAB panel to review the interagency Great Lakes Restoration Initiative (GLRI) Action Plan (FY 2010-FY2014) that describes restoration priorities, goals, objectives, measurable ecological targets, and specific actions for the Great Lakes.

DATES: The meeting will be held on July 12, 2011 from 9 a.m. to 5:30 p.m. and July 13, 2011 from 8 a.m. to 5 p.m. (Central Time).

ADDRESSES: The Panel meeting will be held at the Congress Plaza Hotel, 520 South Michigan Avenue, Chicago, IL 60605.

FOR FURTHER INFORMATION: Any member of the public wishing further information regarding this meeting may contact Mr. Thomas Carpenter, Designated Federal Officer (DFO), SAB Staff Office, by telephone/voice mail at (202) 564-4885; by fax at (202) 565-2098 or via e-mail at carpenter.thomas@epa.gov. General information concerning the EPA Science Advisory Board can be found at the EPA SAB Web site at http://www.epa.gov/sab. Any inquiry regarding the Great Lakes Restoration Initiative's Action Plan should be directed to Mr. Paul Horvatin, Chief, Monitoring Indicators and Reporting Branch, horvatin.paul@epa.gov (312) 353-3612, or Mr. Todd Nettesheim, nettesheim.todd@epa.gov (312) 353-9153, U.S. EPA Great Lakes National Program Office, 77 West Jackson Boulevard (G-17J), Chicago, Illinois 60604.

SUPPLEMENTARY INFORMATION: Background: The SAB was established pursuant to the Environmental Research, Development, and Demonstration Authorization Act (ERDAA) codified at 42 U.S.C. 4365, to provide independent scientific and technical peer review, advice, consultation, and recommendations to the EPA Administrator on the technical basis for EPA actions. As a Federal Advisory Committee, the SAB conducts business in accordance with the Federal Advisory Committee Act (FACA) (5 U.S.C. App. 2) and related regulations. The SAB will comply with the provisions of FACA and all appropriate SAB Staff Office procedural policies.

EPA is leading an interagency Great Lakes Restoration Initiative (GLRI) to protect and restore the chemical, biological, and physical integrity of the Great Lakes. The GLRI Action Plan is designed to target the most significant environmental problems in the region, as documented in extensive scientific studies, conferences and workshops. To guide the efforts of the GLRI, EPA and its Federal partners, through the Great Lakes Interagency Task Force, developed a comprehensive multi-year Action Plan. The GLRI Action Plan identifies outcome-oriented performance goals, objectives, measurable ecological targets, and specific actions for five major focus areas: Toxic substances and areas of concern; invasive species; near-shore health and nonpoint source pollution; habitat and wildlife protection and restoration; and accountability, education, monitoring, evaluation, communication, and partnerships. EPA is seeking SAB review and comment regarding the Great Lakes Restoration Initiative's Action Plan. The SAB Staff Office requested public nominations of experts to serve on a review panel to advise the Agency on scientific and technical issues related to the GRLI Action Plan (75 FR 185, 58383-58385, September 24, 2010). The SAB Staff Office sought nominations of nationally and internationally recognized scientists and engineers with demonstrated expertise and research or management experience in one or more of the following areas: Limnology, landscape ecology, restoration ecology, ecotoxicology, population biology, aquatic biology, fisheries and wildlife management, invasive species, water chemistry, environmental engineering, environmental monitoring, and environmental assessment. Information about formation of the panel, the Action Plan, and additional information describing the scientific background and basis for the Action Plan can be found at http://yosemite.epa.gov/sab/sabproduct.nsf/fedrgstr_activites/Review%20of%20GLRI%20Action%20Plan?OpenDocument. The purpose of the July 12-13, 2011, meeting is for the Panel to discuss their review comments on The Great Lakes Restoration Initiative Action Plan and scientific background document.

Availability of the review materials: The GLRI Action Plan is available on the Great Lakes National Program Office Web site http://greatlakesrestoration.us/?page_id=24. The agenda, the GLRI Action Plan, and scientific background document are available at the SAB Web site http://yosemite.epa.gov/sab/sabproduct.nsf/fedrgstr_activites/Review%20of%20GLRI%20Action%20Plan?OpenDocument. For questions concerning the GLRI, please contact Paul Horvatin, Chief, Monitoring Indicators and Reporting Branch, U.S. EPA Great Lakes National Program Office, 77 West Jackson Boulevard (G-17J), Chicago, Illinois 60604, phone (312) 353-3612; fax (312) 385-5456, or at horvatin.paul@epa.gov.

Procedures for Providing Public Input: Public comment for consideration by EPA's Federal advisory committees and panels has a different purpose from public comment provided to EPA program offices. Therefore, the process for submitting comments to a Federal advisory committee is different from the process used to submit comments to an EPA program office. Federal advisory committees and panels, including scientific advisory committees, provide independent advice to EPA. Members of the public can submit comments for a Federal advisory committee to consider as it develops advice for EPA. Input from the public to the SAB will have the most impact if it consists of comments that provide specific scientific or technical information or analysis for SAB panels to consider or if it relates to the clarity or accuracy of the technical information. Members of the public wishing to provide comment should contact the Designated Federal Officer for the relevant advisory committee directly. Oral Statements: In general, individuals or groups requesting an oral presentation at this public meeting will be limited to five minutes per speaker. Interested parties should contact Mr. Thomas Carpenter, DFO, in writing (preferably via e-mail), at the contact information noted above, by June 28, 2011 to be placed on the list of public speakers for the meeting. Written Statements: Written statements should be received in the SAB Staff Office by July 5, 2011 so that the information may be made available to the SAB Panel for their consideration. Written statements should be supplied to the DFO in the following formats: One hard copy with original signature and one electronic copy via e-mail (acceptable file format: Adobe Acrobat PDF, WordPerfect, MS Word, MS PowerPoint, or Rich Text files in IBM-PC/Windows 98/2000/XP format). Submitters are requested to provide two versions of each document submitted: One each with and without signatures, because the SAB Staff Office does not publish documents with signatures on its Web sites. It is the SAB Staff Office general policy to post written comments on the Web page for the advisory meeting or teleconference. Members of the public should be aware that their contact information, if included in any written comments, will appear on the SAB Web page. Furthermore, special care should be taken not to include copyrighted material.

Accessibility: For information on access or services for individuals with disabilities, please contact Mr. Thomas Carpenter at the phone number or e-mail address noted above, preferably at least ten days prior to the meeting, to give EPA as much time as possible to process your request.

Dated: June 9, 2011.
Vanessa T. Vu,
Director, EPA Science Advisory Board Staff Office.

[FR Doc. 2011-14810 Filed 6-14-11; 8:45 am]

BILLING CODE 6560-50-P